DEPARTMENT OF HOMELAND SECURITY

Federal Emergency Management Agency

44 CFR Part 67

[Docket ID FEMA-2010-0003; Internal Agency Docket No. FEMA-B-1164]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before March 7, 2011.

ADDRESSES: The corresponding preliminary Flood Insurance Rate Map (FIRM) for the proposed BFEs for each community is available for inspection at the community's map repository. The respective addresses are listed in the table below.

You may submit comments, identified by Docket No. FEMA-B-1164, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
St. Lucie County, Florida, and Incorporated Areas
Canal 8 | At the confluence with Fivemile Creek | None | +12 | City of Fort Pierce, Unincorporated Areas of St. Lucie County.
| Approximately 1,385 feet upstream of Summit Street | None | +18
Fivemile Creek | At Peterson Road | None | +16 | City of Fort Pierce, Unincorporated Areas of St. Lucie County.
| Approximately 0.5 mile upstream of Peterson Road | None | +16
Howard Creek | Approximately 1,635 feet downstream of Southeast Ballantrae Boulevard | None | +6 | City of Port St. Lucie, Unincorporated Areas of St. Lucie County.
| Approximately 0.6 mile upstream of Southeast Westmoreland Boulevard | None | +13
Ponding Area | Ponding area bounded by Virginia Park Boulevard to the north, west, and south, and South 35th Street to the east | None | +15 | City of Fort Pierce, Unincorporated Areas of St. Lucie County.
Ponding Area | Ponding area bounded by State Highway 70 to the north, South 35th Street to the west, Cortez Boulevard to the south, and South 29th Street to the east | None | +15 | City of Fort Pierce, Unincorporated Areas of St. Lucie County.
Ponding Area | Ponding area bounded by State Highway 70 to the north, South 29th Street to the west, Cortez Boulevard to the south, and Placid Avenue to the east. | None | +16 | City of Fort Pierce, Unincorporated Areas of St. Lucie County.
Ponding Area | Ponding area bounded by Royal Palm Drive to the north, South 25th Street to the west, Cortez Boulevard to the south, and South 19th Street to the east | None | +17 | City of Fort Pierce, Unincorporated Areas of St. Lucie County.
Ponding Area | Ponding area bounded by Cortez Boulevard to the north, South 25th Street to the west, Edwards Road to the south, and Admiral Street to the east | None | +17 | City of Fort Pierce, Unincorporated Areas of St. Lucie County.
Ponding Area | Ponding area bounded by Arnold Road to the north, Fivemile Creek to the west, Kirby Loop Road to the south, and Virginia Park Boulevard to the east | None | +14 | City of Fort Pierce.
Ponding Area | Ponding area bounded by State Highway 70 to the north, South 35th Street to the west, Cortez Boulevard to the south, and South 29th Street to the east | None | +16 | City of Fort Pierce.
Ponding Area | Ponding area bounded by State Highway 70 to the north, South 35th Street to the west, Cortez Boulevard to the south, and South 29th Street to the east | None | +17 | City of Fort Pierce.
Ponding Area | Ponding area bounded by Linda Sue Circle to the north, west, south, and east | None | +17 | City of Fort Pierce.
Tenmile Creek Tributary | At McCarty Road | None | +19 | City of Port St. Lucie, Unincorporated Areas of St. Lucie County.
| Approximately 1,400 feet upstream of Newell Road | None | +21
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Fort Pierce
Maps are available for inspection at City Hall, 100 North U.S. Highway 1, Fort Pierce, FL 34950.
City of Port St. Lucie
Maps are available for inspection at City Hall, 121 Southwest Port St. Lucie Boulevard, Port St. Lucie, FL 34984.
Unincorporated Areas of St. Lucie County
Maps are available for inspection at the St. Lucie County Building Department, 2300 Virginia Avenue, Fort Pierce, FL 34982.
Wayne County, Michigan (All Jurisdictions)
McClaughrey Drain | Just downstream of Van Born Road | None | +662 | City of Romulus, City of Wayne, Township of Van Buren.
| Just downstream of I-275 North | None | +669
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Romulus
Maps are available for inspection at 11111 Wayne Road, Romulus, MI 48174.
City of Wayne
Maps are available for inspection at 4001 South Wayne Road, Wayne, MI 48184.
Township of Van Buren
Maps are available for inspection at 46425 Tyler Road, Van Buren Township, MI 48111.
Harris County, Texas, and Incorporated Areas
K100-00-00 (Cypress Creek) | Approximately 0.57 mile downstream of Treaschwig Road | +78 | +79 | City of Houston, Unincorporated Areas of Harris County.
| Approximately 1.1 miles upstream of the Waller County boundary | +172 | +173
K111-00-00 (Turkey Creek) | Approximately 1,100 feet downstream of Hardy Toll Road | +91 | +90 | Unincorporated Areas of Harris County.
| Approximately 650 feet upstream of North Vista Drive | +104 | +105
K116-00-00 (Schulz Gully) (backwater effects from Cypress Creek) | At the confluence with Cypress Creek | +84 | +85 | Unincorporated Areas of Harris County.
| Approximately 920 feet downstream of Aldine Westfield Road | +84 | +85
K120-00-00 (Lemm Gully) (backwater effects from Cypress Creek) | At the confluence with Cypress Creek | +91 | +92 | Unincorporated Areas of Harris County.
| Approximately 0.4 mile upstream of Lockridge Drive | +91 | +92
K120-01-00 (Senger Gully) (backwater effects from Cypress Creek) | At the confluence with Lemm Gully | +91 | +92 | City of Houston, Unincorporated Areas of Harris County.
| Approximately 100 feet upstream of I-45 | +91 | +92
K124-00-00 (Seals Gully) | Approximately 1,400 feet downstream of Candle Creek Road | +101 | +102 | Unincorporated Areas of Harris County.
| Approximately 500 feet upstream of Spring Cypress Road | +124 | +125
K131-00-00 (Spring Gully) | At the confluence with Cypress Creek | +108 | +106 | Unincorporated Areas of Harris County.
| Approximately 200 feet downstream of Spring Cypress Road | +136 | +137
K131-03-03 (Tributary 2.1 to Spring Gully) (backwater effects from Spring Gully) | At the confluence with Spring Gully | +114 | +112 | Unincorporated Areas of Harris County.
| Just upstream of T.C. Jester Boulevard | +114 | +112
K131-04-00 (Tributary to Spring Gully) (backwater effects from Spring Gully) | At the confluence with Spring Gully | +123 | +121 | Unincorporated Areas of Harris County.
| Approximately 1,600 feet upstream of the confluence with Spring Gully | +123 | +122
K133-00-00 (Dry Gully) (backwater effects from Cypress Creek) | At the confluence with Cypress Creek | +113 | +112 | Unincorporated Areas of Harris County.
| Approximately 400 feet upstream of Champions Forest Drive | +113 | +112
K140-00-00 (Pillot Gully) (backwater effects from Cypress Creek) | At the confluence with Cypress Creek | +119 | +118 | Unincorporated Areas of Harris County.
| Just downstream of River Park Drive | +119 | +118
K142-00-00 (Faulkey Gully) | At the confluence with Cypress Creek | +124 | +122 | Unincorporated Areas of Harris County.
| Just downstream of Lakewood Forest Drive | +124 | +123
K145-00-00 (Dry Creek) (backwater effects from Cypress Creek) | At the confluence with Cypress Creek | +140 | +139 | Unincorporated Areas of Harris County.
| Just downstream of Jarvis Road | +140 | +139
K152-00-00 (Tributary 37.1 to Cypress Creek) | Approximately 1,500 feet upstream of the confluence with Cypress Creek | +149 | +148 | Unincorporated Areas of Harris County.
| Approximately 920 feet downstream of U.S. Route 290 | +153 | +151
K155-00-00 (Tributary 40.7 to Cypress Creek) | At the confluence with Cypress Creek | +156 | +158 | Unincorporated Areas of Harris County.
| Approximately 1,580 feet downstream of U.S. Route 290 | +198 | +197
K157-00-00 (Tributary 42.7 to Cypress Creek) | At the confluence with Cypress Creek | +159 | +163 | Unincorporated Areas of Harris County.
| Approximately 2 miles upstream of Jack Road | +197 | +196
K159-00-00 (Channel A to Cypress Creek) (backwater effects from Cypress Creek) | At the confluence with Cypress Creek | +150 | +151 | Unincorporated Areas of Harris County.
| Approximately 1,900 feet upstream of the confluence with Cypress Creek | +150 | +151
K160-00-00 (Rock Hollow) | At the confluence with Cypress Creek | +161 | +163 | Unincorporated Areas of Harris County.
| Approximately 980 feet upstream of Mound Road | +207 | +206
K160-01-00 (Tributary 1.63 to Rock Hollow) | Approximately 0.6 mile upstream of the confluence with Rock Hollow | +167 | +166 | Unincorporated Areas of Harris County.
| Approximately 2.8 miles upstream of the confluence with Rock Hollow | +193 | +192
K185-00-00 and K172-00-00 (Tributary 44.5 to Cypress Creek) | At the Cypress Creek confluence with K185-00-00 | +164 | +166 | Unincorporated Areas of Harris County.
| Approximately 0.7 mile downstream of Mound Road | +208 | +206
L100-00-00 (Little Cypress Creek) (backwater effects from Cypress Creek) | At the confluence with Cypress Creek | +131 | +130 | Unincorporated Areas of Harris County.
| Approximately 1,500 feet upstream of the confluence with Cypress Creek | +131 | +130
* National Geodetic Vertical Datum.
+ North American Vertical Datum.
# Depth in feet above ground.
∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Houston
Maps are available for inspection at the Floodplain Management Office, 3300 Main Street, 1st Floor, Houston, TX 77002.
Unincorporated Areas of Harris County
Maps are available for inspection at the Harris County Permit Office, 10555 Northwest Freeway, Suite 120, Houston, TX 77092.

(Catalog of Federal Domestic Assistance No. 97.022, “Flood Insurance.”)

Dated: November 23, 2010.
Sandra K. Knight,
Deputy Federal Insurance and Mitigation Administrator, Mitigation, Department of Homeland Security, Federal Emergency Management Agency.

[FR Doc. 2010-30609 Filed 12-6-10; 8:45 am]

BILLING CODE 9110-12-P